DEPARTMENT OF TRANSPORTATION

Federal Aviation Administration

Notice of Intent to Rule on Application (00-02-C-00-PDT) to Impose and Use, the Revenue from a Passenger Facility Charge (PFC) at Eastern Oregon Regional Airport at Pendleton, Submitted by the City of Pendleton, OR

AGENCY: Federal Aviation Administration (FAA), DOT.

ACTION: Notice of Intent to Rule on Application.

SUMMARY: The FAA proposes to rule and invites public comment on the application to impose and use, PFC revenue at Eastern Oregon Regional Airport at Pendleton under the provisions of 49 U.S.C. 40117 and Part 158 of the Federal Aviation Regulations (14 CFR 158).

DATES: Comments must be received on or before May 4, 2000.

ADDRESSES: Comments on this application may be mailed or delivered in triplicate to the FAA at the following address: Mr. J. Wade Bryant, Manager; Seattle Airports District Office, SEA-ADO; Federal Aviation Administration; 1601 Lind Avenue SW, Suite 250, Renton, Washington 98055-4056.

In addition, one copy of any comments submitted to the FAA must be mailed or delivered to Mr. Larry Dalrymple, Airport Manager, at the following address: 2016 Airport Road, Pendleton, Oregon 97801.

Air Carriers and foreign air carriers may submit copies of written comments previously provided to East Oregon Regional Airport, under section 158.23 of Part 158.

FOR FURTHER INFORMATION CONTACT: Ms. Suzanne Lee-Pang, (425)227-2654, Seattle Airports District Office, SEA-ADO; Federal Aviation Administration; 1601 Lind Avenue SW, Suite 250, Renton, Washington 98055-4056. The application may be reviewed in person at this same location.

SUPPLEMENTARY INFORMATION: The FAA proposes to rule and invites public comment on the application (00-02-C-00-PDT) to impose and use PFC revenue at Eastern Oregon Regional Airport at Pendleton, under the provisions of 49 U.S.C. 40117 and Part 158 of the Federal Aviation Regulations (14 CFR Part 158).

On March 28, 2000, the FAA determined that the application to impose and use, the revenue from a PFC submitted by the City of Pendleton, Pendlton, Oregon was substantially complete within the requirements of section 158.25 of Part 158. The FAA will approve or disapprove the application, in whole or in part, no later than June 29, 2000.

The following is a brief overview of the application.

Level of the proposed PFC: $3.00.

Proposed charge effective date: September 1, 2000.

Proposed charge expiration date: September 15, 2010.

Total requested for use approval: $333,159.

Brief description of proposed project: Complete Terminal Renovations; Non-Revenue Parking Lot Improvements—Long Term Parking; Purchase Aircraft Rescue and Fire Fighting Vehicle; General Aviation Apron Rehabilitation; Taxiway D Rehabilitation; Install PAPI Runway 25; Runway 11-29 Rehabilitation; Terminal Apron C Rehabilitation.

Class or classes of air carriers which the public agency has requested not be required to collect PFC's: Air taxi/commercial operators who conduct operations in air commerce carrying persons for compensation or hire.

And person may inspect the application in person at the FAA office listed above under FOR FURTHER INFORMATION CONTACT and at the FAA Regional Airports Office located at: Federal Aviation Administration, Northwest Mountain Region, Airports Division, ANM-600, 1601 Lind Avenue S.W., Suite 315, Renton, WA 98055-4056.

In addition, any person may, upon request, inspect the application, notice and other documents germane to the application in person at the Eastern Oregon Regional Airport at Pendleton.

Issued in Renton, Washington on March 28, 2000.
David A. Field,
Manager, Planning, Programming and Capacity Branch, Northwest Mountain Region.

[FR Doc. 00-8233 Filed 4-3-00; 8:45 am]

BILLING CODE 4910-13-M